OFFICE OF PERSONNEL MANAGEMENT

Submission for Review: 3206-0246, CyberCorps®: Scholarship for Service (SFS) Registration System

AGENCY: Office of Personnel Management.

ACTION: 30-Day notice and request for comments.

SUMMARY: Office of Personnel Management (OPM) Human Resources Solutions offers the general public and other Federal agencies the opportunity to comment on the extension with change of a currently approved information collection request (ICR): 3206-0246, CyberCorps®: Scholarship for Service (SFS) Registration system.

DATES: Comments are encouraged and should be received within 30 calendar days from the date of this publication. This process is conducted in accordance with 5 CFR 1320.

ADDRESSES: Written comments and recommendations for proposed information collection requests should be sent within 30 days of publication of this notice to www.reginfo.gov/public/do/PRAMain. Find this particular information collection request by selecting “Office of Personnel Management” under “Currently Under Review,” then check “Only Show ICR for Public Comment” checkbox.

FOR FURTHER INFORMATION CONTACT: A copy of this ICR, with applicable supporting documentation, may be obtained by contacting: U.S. Office of Personnel Management, Student Programs Branch, Attention: Laura Knowles, 601 East 12th Street, Kansas City, MO 64106-2826, via phone at 202-606-1200, or via electronic email at: sfs@opm.gov

SUPPLEMENTARY INFORMATION: The CyberCorps® Scholarship for Service (SFS) Program was established by the National Science Foundation, in collaboration with the U.S. Office of Personnel Management and the Department of Homeland Security, in accordance with the Cybersecurity Enhancement Act of 2014 (Pub. L. 113-274) as amended by the National Defense Authorization Act and CHIPS and Science Act and codified at 15 U.S.C. 7442. This initiative reflects the critical need for Information Technology (IT) professionals, industrial control system security professionals, and security managers in government. The goals of the CyberCorps® Scholarship for Service (SFS) Program are to: (1) increase the number of qualified and diverse cybersecurity candidates for government cybersecurity positions; (2) improve the national capacity for the education of cybersecurity professionals and research and development workforce; (3) hire, monitor, and retain high-quality CyberCorps® graduates in the cybersecurity mission of Federal Government; and (4) strengthen partnerships between institutions of higher education and Federal, State, local, and Tribal governments. OPM partners with NSF in this program by aiding in matching SFS students to potential agencies, coordinating students' transition into government employment, monitoring students' compliance with program requirements, and assessing whether the program helps meet the personnel needs of the Federal Government for information infrastructure protection.

The SFS Program provides funds to institutions of higher education for student scholarships in support of education in areas relevant to cybersecurity and cybersecurity-related aspects of other related fields as appropriate, including artificial intelligence, quantum computing, and aerospace. Students identified by their institutions for SFS Scholarships must meet selection criteria based on prior academic performance, likelihood of success in obtaining the degree, and suitability for government employment. Each scholarship recipient, as a condition of receiving a scholarship under the program, enters into an agreement under which the recipient agrees to work during the summer between academic terms and to work for a period equal to the length of the scholarship, following receipt of the student's degree, in a position related to cybersecurity and in the cyber security mission of—

(1) an executive agency (as defined in 5 U.S.C. 105);

(2) Congress, including any agency, entity, office, or commission established in the legislative branch;

(3) an interstate agency;

(4) a State, local, or Tribal government;

(5) a State, local, or Tribal government-affiliated non-profit that is critical infrastructure (as defined in section 1016(e) of the USA Patriot Act (42 U.S.C. 5195c(e)); or

(6) as an educator in the field of cybersecurity at a qualified institution of higher education that provides SFS scholarships.

Additionally, scholarship recipients agree to provide OPM (in coordination with the NSF) and the qualified institution of higher education with annual verifiable documentation of post-award employment and up-to-date contact information.

As required by 15 U.S.C. 7442, a SFS scholarship recipient is financially liable to the United States if the individual: fails to maintain an acceptable level of academic standing; is dismissed from the applicable institution of higher education for disciplinary reasons; withdraws from the eligible degree program before completing the program; declares that they do not intend to fulfill the post-award employment obligation; or fails to maintain or fulfill any of the post-graduation or post-award employment obligations or requirements. Failure to satisfy the academic requirements of the program or to complete the service requirement results in forfeiture of the scholarship award, which must either be repaid or reverted by the institution to a student loan pro-rated accordingly to reflect partial service completed.

Approval of the CyberCorps®: Scholarship for Service (SFS) Registration system is necessary to continue management and operation of the program and to facilitate the timely registration, selection, placement, and monitoring of program-enrolled scholarship recipients in Government agencies.

The burden estimate associated with this request is increasing from past years. This is due to three primary reasons: an increased number of scholars, increased reporting requirements, and reassessment of previous reporting of burden estimates. Each year NSF awards grants to additional universities to use for scholarships under the SFS program which increases the number of students that receive scholarships, and consequently, the number of scholars that need to be monitored through the completion of their service commitment. Each student awarded a scholarship must register their profile and resume with the SFS website for the successful facilitation of their placement with a government agency, and they must maintain up-to-date profile and employment information through program completion. The annual employment verification and profile maintenance was not previously collected, and to meet this requirement, scholars and their affiliated academic officials must report employment and up-to-date profile information. Finally, the previous information collection requests only included new scholars registering with the SFS portal. Costs attributable to the requirement for scholars to provide annual employment verification and to maintain an up-to-date profile have been captured in this burden estimate in addition to the information collected from academic and agency officials.

The Office of Personnel Management (OPM), Human Resources Solutions Division, offers the general public and other Federal agencies the opportunity to comment on an existing information collection request (ICR) 3206-0246, SFS Registration System. The information collection was previously published in the Federal Register at 86 FR 17219 allowing for a 60-day public comment period. No comments were received for this information collection. The purpose of this notice is to allow an additional 30 days for public comments.

The Office of Management and Budget (OMB) is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Identify ways in which OPM can minimize the burden of the collection of information on those who are to respond, including through the use of appropriate automated, electronic, mechanical, or other technological collection techniques or other forms of information technology, e.g., permitting electronic submissions of responses.

Analysis

Agency: CyberCorps®: Scholarship for Service, Office of Personnel Management.

Title: Scholarship for Service (SFS) Program Internet Site.

OMB Number: 3206-0246.

Frequency: Annually.

Affected Public: Individuals or Households.

Number of Respondents: 1,303.

Estimated Time per Respondent:

New Scholars: 30 minutes.

Existing Scholars: 15 minutes.

Principal Investigators/Academic Officials: 35 minutes.

Agency Officials: 10 minutes.

Total Burden Hours: 965 hours.

Office of Personnel Management.
Alexys Stanley,
Federal Register Liaison.

[FR Doc. 2024-20175 Filed 9-6-24; 8:45 am]

BILLING CODE 6325-43-P